DEPARTMENT OF AGRICULTURE

Grain Inspection, Packers and Stockyards Administration

[02-b-c]

Opportunity To Comment on the Applicant for the Oregon Area

AGENCY: Grain Inspection, Packers and Stockyards Administration, USDA.

ACTION: Notice.

SUMMARY: GIPSA requests comments on the applicant for designation to provide official services in the Oregon geographic area.

DATES: Comments must be postmarked or electronically dated on or before February 28, 2003.

ADDRESSES: Comments must be submitted in writing to USDA, GIPSA, Janet M. Hart, Chief, Review Branch, Compliance Division, STOP 3604, room 1647-S, 1400 Independence Ave. SW., Washington, DC 20250-3604; FAX 202-690-2755; e-mail Janet.M.Hart@usda.gov. All comments received will be made available for public inspection at the above address located at 1400 Independence Avenue, SW., during regular business hours.

FOR FURTHER INFORMATION CONTACT: Janet M. Hart at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the November 22, 2002, Federal Register, (67 FR 70397), GIPSA announced that Oregon was ceasing their official inspection operations effective November 27, 2002, and asked persons interested in providing official services in the Oregon area to submit an application for designation by December 23, 2002. There was one applicant. Lewiston Grain Inspection Service, Inc. (Lewiston), main office located in Lewiston, Idaho, applied for the entire area specified in the November 22, 2002, Federal Register.

GIPSA is publishing this notice to provide interested persons the opportunity to present comments concerning the applicant. Commenters are encouraged to submit reasons and pertinent data for support or objection to the designation of the applicant. All comments must be submitted to the Compliance Division at the above addresses. Comments and other available information will be considered in making a final decision. GIPSA will publish notice of the final decision in the Federal Register, and GIPSA will send the applicant written notification of the decision.

Authority: Pub. L. 94-582, 90 Stat. 2867, as amended (7 U.S.C. 71 et seq.).

Dated: January 16, 2003.
Donna Reifschneider,
Administrator, Grain Inspection, Packers and Stockyards Administration.

[FR Doc. 03-1863 Filed 1-28-03; 8:45 am]

BILLING CODE 3410-EN-P